Title 3—

The President

Memorandum of July 17, 2000

Delegation of Authority for Submission of Report Under

Section 606 of the Foreign Relations Authorization Act for Fiscal Years 2000 and 2001

Memorandum for the Secretary of Defense

By the authority vested in me by the Constitution and laws of the United States of America, I hereby delegate to the Secretary of Defense the responsibility of the President, under section 606 of the Foreign Relations Authorization Act for Fiscal Years 2000 and 2001 (Public Law 106-113), to submit the required report to the Congress.

You are hereby authorized and directed to publish this delegation in the Federal Register.

wj

THE WHITE HOUSE,

Washington, July 17, 2000.

[FR Doc. 00-18814

Filed 7-21-00; 8:45 am]

Billing code 5001-10-M